DEPARTMENT OF TRANSPORTATION

Federal Aviation Administration

Notice of Intent To Rule on Application (00-03-C-00-MSO), To Impose and Use the Revenue From a Passenger Facility Charge (PFC), at Missoula International Airport, Submitted by the Missoula County Airport Authority, Missoula International Airport, Missoula, Montana

AGENCY: Federal Aviation Administration (FAA), DOT.

ACTION: Notice of intent to rule on application.

SUMMARY: The FAA proposes to rule and invites public comment on the application to impose and use PFC revenue at Missoula International Airport under the provisions of 49 U.S.C. 40117 and part 158 of the Federal Aviation Regulations (14 CFR 158).

DATES: Comments must be received on or before June 21, 2000.

ADDRESSES: Comments on this application may be mailed or delivered in triplicate to the FAA at the following address: David P. Gabbert, Manager; Helena Airports District Office, Federal Aviation Administration, 2725 Skyway Drive, Suite 2, Helena, Montana 59602.

In addition, one copy of any comments submitted to the FAA must be mailed or delivered to Mr. John P. Seymour, Director of Airports, at the following address: Missoula International Airport, 5225 Highway 10 West, Missoula, Montana 59802.

Air Carriers and foreign air carriers may submit copies of written comments previously provided to Missoula International Airport, under section 158.23 of part 158.

FOR FURTHER INFORMATION CONTACT: David P. Gabbert, (406) 449-5271, Federal Aviation Administration, Airports District Office, 2725 Skyway Drive, Suite 2, Helena, Montana 59602. The application may be reviewed in person at this same location.

SUPPLEMENTARY INFORMATION: The FAA proposes to rule and invites public comment on the application (00-03-C-00-MSO) to impose and use PFC revenue at Missoula International Airport, under the provisions of 49 U.S.C. 40117 and part 158 of the Federal Aviation Regulations (14 CFR part 158).

On May 12, 2000, the FAA determined that the application to impose and use the revenue from a PFC submitted by Missoula County Airport Authority, Missoula International Airport, Missoula, Montana, was substantially complete within the requirements of section 158.25 of part 158. The FAA will approve or disapprove the application in whole or in part, no later than August 11, 2000.

The following is a brief overview of the application.

Level of the proposed PFC: $3.00.

Proposed charge effective date: August 1, 2003.

Proposed charge expiration date: October 31, 2006.

Total requested for use approval: $1,500,000.

Brief description of proposed project: Acquire land for approach protection, airport development and noise mitigation.

Class or classes of air carriers which the public agency has requested not be required to collect PFC's: Non-scheduled on demand air taxis and charters.

Any person may inspect the application in person at the FAA office listed above under For Further Information Contact and at the FAA Regional Airports Office located at: Federal Aviation Administration, Northwest Mountain Region, Airports Division, ANM-600, 1601 Lind Avenue S.W., Suite 315, Renton, WA 98055-4056.

In addition, any person may, upon request, inspect the application, notice and other documents germane to the application in person at the Missoula International Airport.

Issued in Renton, Washington on May 12, 2000.
David A. Field,
Manager, Planning, Programming and Capacity Branch, Northwest Mountain Region.

[FR Doc. 00-12825 Filed 5-19-00; 8:45 am]

BILLING CODE 4910-13-M